DEPARTMENT OF STATE

[Public Notice 3742]

Shipping Coordinating Committee Subcommittee on Safety of Life at Sea Working Group on Fire Protection; Notice of Meeting

The Safety of Life at Sea (SOLAS) Working Group on Fire Protection, a working group of the Shipping Coordinating Committee, will conduct an open meeting at 10 a.m. on Friday, September 21, 2001, in room 2415, U.S. Coast Guard Headquarters, 2100 Second Street, SW, Washington, DC.

The purpose of this meeting will be to prepare for discussions anticipated to take place at the forty-sixth session of the International Maritime Organization's Subcommittee on Fire Protection, to be held February 4-8, 2002.

The meeting will focus on proposed amendments to the 1974 SOLAS Convention for the fire safety of commercial vessels. Specific discussion areas include:

—Recommendation on evacuation analysis for new and existing passenger vessels

—Smoke control and ventilation

—Unified interpretations to SOLAS chapter II-2 and related fire test procedures

—Analysis of fire casualty records

—Large passenger ship safety

—Performance testing and approval standards for fire safety systems

Members of the public may attend this meeting up to the seating capacity of the room. Interested persons may seek information by writing: Chief, Office of Design and Engineering Standards, Commandant (G-MSE-4), U.S. Coast Guard Headquarters, 2100 Second Street, SW, Washington, DC 20593-0001, by calling: LCDR Kevin Kiefer at (202) 267-1444, or by visiting the following World Wide Website: http://www.uscg.mil/hq/g-m/mse4/stdimofp.htm.

Dated: August 27, 2001.
Stephen Miller,
Executive Secretary, Shipping Coordinating Committee, Department of State.

[FR Doc. 01-22261 Filed 9-4-01; 8:45 am]

BILLING CODE 4710-07-P